FEDERAL COMMUNICATIONS COMMISSION

47 CFR Parts 2, 73, 74, 80, 90 and 97

[ET Docket No. 02-16; FCC 02-27]

WRC Frequency Bands Below 28000 kHz

AGENCY: Federal Communications Commission.

ACTION: Proposed rule.

SUMMARY: This document proposes to amend our rules in order to implement domestically various allocation decisions from International Telecommunication Union (“ITU”) World Radiocommunication Conferences concerning the frequency bands below 28000 kilohertz (“kHz”). The most significant of these proposals is to reallocate high frequency (“HF”) spectrum from the fixed and mobile services to the broadcasting service. We also propose to make various minor amendments to our U.S. Table of Frequency Allocations (“U.S. Table”) and to several of our service rules. In sum, the proposed actions would update our Rules for frequency bands below 28000 kHz so that they better comport with international regulations, would update various rule parts to effectuate the allocation changes, and would otherwise clean-up rules that have not recently been reviewed.

Dates: Comments are due on or before May 8, 2002 and reply comments are due on or before June 7, 2002. Written comments by the public on the proposed information collections are due on or before May 8, 2002. Written comments must be submitted by the Office of Management and Budget (OMB) on the proposed information collection(s) on or before June 7, 2002.

ADDRESSES: All filings must be sent to the Commission's Acting Secretary, Bill Caton, Office of the Secretary, Federal Communications Commission, 415 12th Street, SW, TW-A325, Washington, DC 20554. In addition to filing comments with the Secretary, a copy of any comments on the information collections contained herein should be submitted to Judith Boley Herman, Federal Communications Commission, Room 1-C804, 445 12th Street, SW, Washington, DC 20554, or via the Internet to jbherman@fcc.gov, and to Jeanette Thornton, OMB Desk Officer, Room 10236 NEOB, 725 17th Street, NW., Washington, DC 20503 or via the Internet to JThornto@omb.eop.gov.

FOR FURTHER INFORMATION CONTACT: Tom Mooring, Office of Engineering and Technology, at (202) 418-2450 or tmooring@fcc.gov. For additional information concerning the information collection(s) contained in this document, contact Judith Boley Herman at 202-418-0214 or jbherman@fcc.gov.

SUPPLEMENTARY INFORMATION: This is a summary of the Commission's Notice of Proposed Rule Making and Order (“NPRM and Order”), ET Docket 02-16, FCC 02-27, adopted January 30, 2002, and released February 7, 2002. The full text of this Commission decision is available for inspection and copying during normal business hours in the FCC Reference Information Center, Room CY-A257, 445 12th Street, SW, Washington, DC, and also may be purchased from the Commission's duplication contractor, Qualex International (202) 863-2893, Room CY-B402, 445 12th Street, SW, Washington, DC 20554.

This NPRM and Order contains a proposed information collection(s) subject to the Paperwork Reduction Act of 1995 (PRA). It has been submitted to the Office of Management and Budget (OMB) for review under the PRA. OMB, the general public, and other Federal agencies are invited to comment on the proposed information collections contained in this proceeding.

Paperwork Reduction Act: This NPRM and Order contains a proposed information collection. The Commission, as part of its continuing effort to reduce paperwork burdens, invites the general public and the Office of Management and Budget (OMB) to comment on the information collection(s) contained in this NPRM and Order, as required by the Paperwork Reduction Act of 1995, Public Law 104-13. Public and agency comments are due at the same time as other comments on this NPRM and Order; OMB notification of action is due on or before June 7, 2002. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology.

OMB Control Number: 3060-XXXX.

Title: Part 73 Subpart F International Broadcast Stations.

Form No.: FCC 309, FCC 310, FCC 311.

Type of Review: New Collection.

Respondents: Businesses and not-for-profit entities.

Number of Respondents: 24.

Estimated Time Per Response: 0.5 hours—10 hours.

Frequency of Response: On occasion filing requirements, annual recordkeeping requirement.

Total Annual Burden: 684 hours.

Total Annual Costs: $42,970.

Needs and Uses: Information collected pursuant to the rules sent forth in 47 CFR Part 73, Subpart F used by the Commission to assign frequencies for use by international broadcast stations, to grant authority to operate such stations, and to determine if interference or adverse propagation conditions exists that may impact the operation of such stations.

Summary of the Notice of Proposed Rulemaking

1. This NPRM and Order proposes to amend Parts 2, 73, 74, 80, 90, and 97 of our Rules in order to implement domestically various allocation decisions from ITU World Radiocommunication Conferences concerning the frequency bands below 28000 kHz. The most significant of these proposals is to reallocate HF spectrum from the fixed and mobile services to the broadcasting service. The long-range propagation characteristics of HF frequencies enable audio programs to be received directly by the general public in countries far from the country of origin, and thus HF broadcasting (“HFBC”) is also known as international broadcasting. Specifically, we propose to make an additional 1540 kilohertz of spectrum available exclusively for use by international broadcast stations, with 850 kilohertz immediately available and the remainder available after a transition period that ends on April 1, 2007. Until the completion of the transition period, fixed and mobile stations in that spectrum would be allowed to continue to operate on a primary basis; after that date, these stations would be allowed to continue to operate on the condition that harmful interference is not caused to the broadcasting service. This action would significantly increase the amount of spectrum available to international broadcasters on a worldwide basis, thus facilitating the provision of information and entertainment to people throughout the world. In addition, we propose to update our Rules for international broadcast stations (Part 73, Subpart F) in order to add the new frequency bands and to otherwise conform to international regulations.

2. We also propose to make various minor amendments to our U.S. Table and to several of our service rules. In particular, we propose to clarify the status of services operating in the AM Expanded Band (1605-1705 kHz). To prevent the licensing of Industrial/Business Pool stations (which no longer have an allocation in the AM Expanded Band) during the pendency of this proceeding, we will no longer accept applications for new licenses or modifications or renewals of existing licenses for frequencies in the band 1605-1705 kHz and applicants with such pending applications will be given the opportunity to specify other frequencies. We also propose to permit stations in the Industrial/Business Pool and radiolocation service that are assigned frequencies in the band 1605-1705 kHz to continue to operate until the end of their current license term on a non-interference basis (“NIB”) to AM radio stations and travelers” information stations (“TIS”), without an opportunity for renewal. In addition, we propose to permit remote pickup broadcast stations to continue operations in the band 26100-26175 kHz, to remove outdated regulations in the aeronautical fixed and amateur radio services, and to make six new frequencies available for forest product licensees in limited geographic areas of the country.

International Broadcast Stations

3. At the 1979 World Administrative Radio Conference (“WARC-79”), the following bands were allocated to the broadcasting service on an exclusive basis throughout the world: 9775-9900 kHz, 11650-11700 kHz, 11975-12050 kHz, 13600-13800 kHz, 15450-15600 kHz, 17550-17700 kHz, and 21750-21850 kHz. The WARC-79 HFBC bands became effective provisionally in 1999. Therefore, we propose to delete the fixed service from the WARC-79 HFBC bands, thereby making this spectrum available exclusively to the broadcasting service, and to add these bands to the rules for international broadcast stations. This action would provide international broadcasters with an additional 850 kilohertz of spectrum. We anticipate that this action would permit significantly more HFBC stations to operate in bands allocated exclusively to the broadcasting service, thereby reducing the need to coordinate with fixed stations. Regarding incumbent operations, the National Telecommunications and Information Administration (“NTIA”) has informed us that, consistent with international footnote S5.147, Federal agencies would continue to operate fixed stations in three of the WARC-79 HFBC bands (9775-9900 kHz, 11650-11700 kHz, and 11975-12050 kHz) and that these fixed stations will operate on the condition that harmful interference is not caused to the broadcasting service.

4. At the 1992 World Administrative Radio Conference (“WARC-92”), the following bands were allocated to the broadcasting service on a primary (and ultimately exclusive) basis throughout the world: 5900-5950 kHz, 7300-7350 kHz, 9400-9500 kHz, 11600-11650 kHz, 12050-12100 kHz, 13570-13600 kHz, 13800-13870 kHz, 15600-15800 kHz, 17480-17550 kHz, and 18900-19020 kHz. Exclusive broadcasting use of the WARC-92 HFBC bands is to become effective on April 1, 2007. However, until the transition period has concluded, we anticipate that fixed and mobile use will continue to be the main use of these bands in the United States. Therefore, in derogation of the ITU Radio Regulations, we propose to maintain the existing direct Table allocations to the fixed and mobile services in the WARC-92 HFBC bands at this time in order to highlight the main use of these bands. We propose this action at the request of NTIA. Accordingly, we propose to allocate this 690 kilohertz of spectrum to the broadcasting service on a shared primary basis with existing fixed and mobile services and to add these bands to Part 73, Subpart F of our Rules. We anticipate that this action would ultimately permit most international broadcast stations to operate in bands allocated exclusively to the broadcast stations to operate in bands allocated exclusively to the broadcasting service. As a consequence of maintaining direct Table allocations for the fixed and mobile services, we propose to adopt a new United States footnote in lieu of international footnotes S5.136, S5.143, S5.146, and S5.151.

5. We also propose to cease issuing licenses for new non-Federal Government stations in the fixed and mobile services in the WARC-92 HFBC bands on April 1, 2007, consistent with the proposed allocation changes for these services. We anticipate that these requirements can be met in other HF bands allocated to the fixed and mobile services. With regard to non-Federal Government fixed and mobile licenses granted in the WARC-92 HFBC bands prior to the adoption of a Report and Order in this proceeding, we instruct the Wireless Telecommunications Bureau to add an informational note on these licenses that the authorization may be conditioned as a result of action taken in this proceeding.

6. We anticipate that the WARC-92 HFBC bands will be more heavily used by international broadcast stations after April 1, 2007 because HFBC stations will no longer need to protect fixed and mobile operations and because some HFBC stations now operating in other bands will move to these frequencies. Thus, fixed and mobile licensees may wish to consider moving to other bands prior to April 1, 2007, especially if their current license expires prior to that time, because of the expected difficulty of co-channel sharing between high-powered, directional international broadcast stations and stations operating in other services. In this regard, we observe that equipment used by licensees in the fixed service below 25000 kHz is required to be “capable of transmitting and receiving on any frequency in the bands assigned to the particular operation and capable of immediate change among the frequencies,” i.e., the equipment is tunable. It is our experience that maritime mobile equipment in this frequency range is also tunable. Given that there are other HF bands allocated to the fixed and mobile services and that existing equipment is tunable to these frequencies, we tentatively find that fixed and mobile assignments now using the WARC-92 HFBC bands could continue operations using other HF spectrum after the April 1, 2007 effective date for exclusive HFBC use. We request comment on the ease and feasibility of retuning fixed and mobile operations out of the WARC-92 HFBC bands. Specifically, are there significant costs or hardships associated with fixed and mobile licensees retuning to frequencies outside of the WARC-92 HFBC bands and if so, what actions could mitigate such impact? Finally, as a consequence of the upcoming reallocation, we propose to add informational notes to Part 80 (the maritime service rules) stating that radioprinter use of the bands 5900-5950 kHz and 7300-7350 kHz and Alaska private-fixed station use of the frequency 11601.5 kHz will be on the condition that harmful interference is not caused to HF broadcasting. We request comment on these proposals and assumptions.

7. In order to bring the Commission's Rules for international broadcast stations into conformance with current international provisions, we propose to make the following amendments to Part 73, Subpart F. First, we propose to amend § 73.756(c) by revising the frequency tolerance of 0.0015 percent of the assigned frequency to the current ITU standard of 10 hertz. We request comment on the number of HFBC stations currently operating that meet the more stringent standard. Further, we request comment on whether it is feasible to modify existing transmitters to meet this standard. If so, what costs are involved? Additionally, we request that commenters address the effects that grandfathering existing stations at their current frequency tolerance would have on this service. Second, we propose to revise various HFBC definitions in § 73.701 of our Rules to reflect international requirements as specified in the WRC-97 Final Acts. In particular, we observe that internationally the number of seasonal schedules per year has been reduced from four to two. Third, we propose to delete the band 25600-25670 kHz from the list of frequencies available to HFBC stations in Part 73 of our Rules. This band is not currently used by HFBC stations and this proposal would conform our Rules to the ITU's Table of Frequency Allocations and thus, protect radio astronomy observations in this frequency range. Fourth, we propose to clarify how the band 7100-7300 kHz may be used by international broadcast stations. Fifth, we propose to replace the map depicting geographical zones or areas of reception (“target zone map”) in § 73.703 with the current ITU target zone map. Sixth, we propose to modify the last sentence of § 73.766 to change the highest modulating frequency from 5 kilohertz to 4.5 kilohertz to reflect a long-standing international provision. We believe that our HFBC licensees have already made this technical change. The adoption of these proposals would make our rules easier to use and would avoid the confusion that could result from different Commission and international requirements for international broadcast operations. We request comment on all of the above proposals.

AM Expanded Band

8. We observe that, when the land mobile allocation was deleted from the band 1605-1705 kHz in 1983, frequencies within this band were inadvertently not removed from parts 74 and 90 of our Rules. Specifically, the frequencies 1606 kHz, 1622 kHz, and 1646 kHz are listed in § 74.402(a)(1); the frequency 1630 kHz is listed in § 90.20(c)(3); the frequencies 1614 kHz, 1628 kHz, 1652 kHz, 1676 kHz, and 1700 kHz are listed in § 90.35(b)(3), and the band 1605-1705 kHz is listed in § 90.263. We note that approximately 25 AM radio stations are operating in the Expanded Band, that a total of 67 AM radio stations are anticipated to be operating in this spectrum within the next 18 months, and that over 275 Federal and 568 non-Federal Government low power (10 watts) TIS currently operate on AM channels between these high-powered AM radio stations. In particular, we note that Federal Government TIS stations operating on the frequency 1610 kHz have primary status. Therefore, we tentatively find that there is no spectrum available for any other use. Accordingly, we propose to remove these frequencies from parts 74 and 90 of our rules.

9. To prevent the licensing of Public Safety, Industrial/Business Pool, and remote pickup stations in the AM Expanded Band during the pendency of this proceeding, such applications will no longer be granted. We will no longer accept applications for new licenses or modifications or renewals of existing licenses for frequencies within the band 1605-1705 kHz as of the effective date of this (“NPRM and Order”). Any such applications received on or after that date will be returned as unacceptable for filing. Pending applications will be dismissed, unless they are modified to specify alternative frequencies. We take this action to permit the orderly and effective resolution of the issue of mobile services (excluding TIS) operating in the AM Expanded Band. We anticipate this action will have minimal impact because very few such applications are received from Public Safety, Industrial/Business Pool, and remote pickup eligibles to operate in this band and because alternative land mobile spectrum is available.

10. The band 1605-1705 kHz also is allocated to the radiolocation service on a secondary basis for use by both Federal and non-Federal Government licensees. This allocation is codified in footnote US238. While our rules have long recommended that radiolocation stations operating in the band 1605-1705 kHz be relocated to the band 1900-2000 kHz, two non-Federal Government radiolocation licensees continue to operate in this spectrum. Therefore, in order to better protect the technical integrity of the AM Expanded Band, we propose to delete the radiolocation service from the band 1605-1705 kHz in both the Federal and non-Federal Government Table of Frequency Allocations. Consistent with this action, we also propose to remove the band 1605-1705 kHz from the Radiolocation Service Frequency Table in § 90.103 of our Rules and to delete unneeded assignment limitations. Finally, we have had discussions with NTIA concerning the Federal Government's radiolocation assignments in the sub-band 1615-1705 kHz. NTIA has agreed to relocate all of these assignments within one year of the adoption date of the Report and Order in this proceeding. During this one-year transition period, we propose to permit these Federal Government radiolocation stations to continue to operate on the condition that harmful interference is not caused to AM or TIS reception. In addition, NTIA has agreed to relocate out of the AM Expanded Band all Federal Government stations currently operating in this spectrum without an allocation.

11. While there are no Public Safety or remote pickup licensees currently operating in the AM Expanded Band, four Industrial/Business Pool and two radiolocation licensees operate in this spectrum. We propose to permit these currently licensed stations to continue to operate until the end of their current license term on a NIB basis to AM radio and TIS stations, without an opportunity for renewal. Additionally, if we determine that any of these stations in the Industrial/Business Pool or radiolocation service is causing harmful interference to either an AM radio or TIS station, we propose to require that the station immediately cease transmission. Commission staff will work with affected licensees to help them find suitable alternative channels if the licensee desires. We propose that no fee be charged to licensees of affected stations that apply for modification for alternative channels before the end of their license term.

12. We propose to add an informational note to various Part 80 fixed service frequencies to reflect their secondary allocation status. We request comment on all of the above AM Expanded Band proposals.

Continued Use of the Frequencies 26110 kHz, 26130 kHz, 26150 kHz, and 26170 kHz by Broadcast Auxiliary Remote Pickup Stations

13. The band 26100-26175 kHz was reallocated from the land mobile service to the maritime mobile service in 1983. At that time, four land mobile frequencies within the reallocated band were not removed from Part 74 of our Rules. Thus, § 74.402(a) of our Rules continues to state that the following frequencies may be assigned for use by remote broadcast stations and broadcast network entities: 26110 kHz, 26130 kHz, 26150 kHz, and 26170 kHz. We tentatively find that remote pickup stations can share these frequencies with coast stations because of the intermittent nature of their use and because of light coast station demand for these and adjacent frequencies. Nonetheless, if coast station licensees later require use of these four frequencies, we propose to require that remote pickup stations not cause harmful interference to the reception of these coast station transmissions. We request comment on this proposal.

Maritime Services

14. The band 285-325 kHz is Federal/non-Federal Government shared spectrum that is allocated to the maritime radionavigation service on a primary basis, limited to radiobeacons. This band is also being used by Federal agencies for the provision of differential global positioning system (“DGPS”) information. NTIA currently authorizes this function through footnote G121 of its Manual, but this footnote has not previously been coordinated with the Commission. We believe that because the band 285-325 kHz is shared spectrum, footnote G121 should be reclassified as a United States footnote.

15. The frequency 500 kHz is the international distress and calling frequency for Morse radiotelegraphy in the mobile service. A narrower 10 kilohertz guard band requirement (495-505 kHz) became effective in February 1999, when the Global Maritime Distress and Safety System (“GMDSS”) became fully implemented. Recently, we proposed to remove 500 kHz as a distress and safety frequency from our maritime rules because it is not currently in use. Thus, it is planned that at the 2003 World Radiocommunication Conference, Member States will consider whether non-GMDSS requirements should be maintained in the ITU Radio Regulations. However, at this time, we need only to update our rules by renumbering three international footnotes. Accordingly, we propose to renumber international footnotes 472, 472A, and 474 as S5.82, S5.83, and S5.84, respectively.

16. The U.S. Coast Guard currently operates several NAVTEX stations on the frequency 518 kHz. The 1997 World Radiocommunication Conference (“WRC-97”) adopted two requirements concerning NAVTEX operations. First, international footnote S5.131 requires that the frequency 4209.5 kHz be used exclusively for the transmission by coast stations of meteorological and navigational warnings and urgent information to ships by means of narrow-band direct-printing techniques. In its comments to another proceeding, the U.S. Coast Guard states that 4209.5 kHz is an internationally-recognized and used NAVTEX frequency, and that it plans to operate 4 MHz NAVTEX on a trial basis as a means of improving maritime safety broadcast service to mariners, and covering gaps in coverage of similar information broadcast on the International NAVTEX frequency 518 kHz. The U.S. Coast Guard also states that the international use for safety purposes and propagation characteristics of this frequency obviates its use for any other purpose. Accordingly, we propose to adopt international footnote S5.131 domestically.

17. Second, international footnote S5.79A states that when establishing stations in the NAVTEX service on the frequencies 490 kHz, 518 kHz, and 4209.5 kHz, administrations are strongly recommended to coordinate the operating characteristics in accordance with the procedures of the International Maritime Organization. NAVTEX service is currently provided only by the Federal Government. NTIA requests that we adopt international footnote S5.79A domestically, and accordingly, we propose to do so.

18. In the bands 4000-4063 kHz and 8100-8195 kHz, we propose to remove the fixed service allocation because the transition period for reallocating this spectrum exclusively to the maritime mobile service has passed. We request comment on all of the maritime proposals.

Aeronautical Fixed Service

19. The aeronautical fixed service is a radiocommunication service between specified fixed points provided primarily for the safety of air navigation and for the regular, efficient and economical operation of air transport.

20. In Region 2, the band 160-190 kHz is allocated exclusively to the fixed service on a primary basis. Prior to the 1995 World Radiocommunication Conference (“WRC-95”), the band 160-190 kHz was allocated on a primary basis to the aeronautical fixed service, which is a subset of the fixed service, in Region 2 polar areas. At WRC-95, this limitation on the use of the fixed allocation in Region 2 polar areas was eliminated, and thus internationally the band is now available for all fixed uses. The band 160-190 kHz is currently unused by the aeronautical fixed service, and accordingly we propose to delete the limitation to aeronautical fixed use from our Rules. We request comment on this proposal.

21. In the United States, the band 21850-21924 kHz is shared spectrum that is allocated to the fixed service on a primary basis. At WRC-95, fixed use of most of this band (21870-21924 kHz) was limited to the provision of services related to aircraft flight safety through the adoption of international footnote S5.155B. The Federal Aviation Administration (“FAA”) has indicated that it does not intend to implement an aircraft flight safety system in this band. Thus, there is no apparent support on a domestic level for the adoption of this international limitation. However, we invite comment on whether S5.155B should be adopted domestically.

Amateur Service

22. Amateur radio plays an important role in disaster-relief when normal communications systems are overloaded, damaged or disrupted because a disaster has occurred or is likely to occur. We note that WARC-79 adopted Resolution No. 640, entitled “Relating to the International Use of Radiocommunications, in the Event of Natural Disasters, in Frequency Bands Allocated to the Amateur Service.” The Resolution invited administrations to provide for the needs of international disaster communications and for the needs of emergency communications within their national regulations using certain amateur bands, which were listed in international footnote 510 (later renumbered as S5.120). In response, the Commission added international footnote 510 to the non-Federal Government Table of Frequency Allocations and § 97.401(b) to the rules for the amateur radio service, both of which referenced Resolution No. 640. At WRC-97, Resolution 640 was eliminated, and at the 2000 World Radiocommunication Conference (“WRC-2000”), international footnote S5.120 was eliminated. Accordingly, we propose to delete international footnote S5.120 and § 97.401(b) from our Rules. We observe that, under § 97.111(a)(1) and 97.101(c) of our Rules, U.S. amateur radio stations can continue to communicate with foreign stations in disaster areas.

Frequencies Available for Forest Products Licensees

23. The band 27540-28000 kHz is Federal Government exclusive spectrum that is allocated to the fixed and mobile services, except that limited non-Federal Government use is permitted by forest product licensees in certain geographic areas on six channels. This limited use is authorized in footnote US298. We propose to make editorial revisions to footnote US298 to conform with terminology now used in Part 90 of our Rules and to add these frequencies to the Industrial/Business Radio Pool Frequency Table in § 90.35, with an appropriate note describing the limited use that is permitted.

We request comment on this proposal.

Ministerial Conforming Amendments

24. We also propose to take the following non-substantive actions in this proceeding, which would correct and update our Table of Frequency Allocations. The effect of these actions would be to remove confusing and unnecessary material from our Rules and to reflect the WRC-2000 Final Acts with regard to the International Table of Frequency Allocations within our Rules. First, we would remove international footnote S5.60 from the bands 70-90 kHz and 110-130 kHz because this footnote is a limitation on an allocation that was never made domestically. Second, we would remove superfluous international footnote S5.80 from the band 415-435 kHz because the limitation in that footnote does not apply to this band. Third, we would delete the secondary direct Table allocation for the space research service in the band 19990-19995 kHz because this allocation is also contained in footnote G106, which was recently added to the band 19990-20010 kHz. Fourth, we would delete pre-1991 frequencies listed for ship and coast station operations from footnote US82. Fifth, we would make various editorial changes to other U.S. footnotes to conform to previous decisions and to update the material in the text. Sixth, we would add an informational note to § 90.35 stating that the use of five frequencies is on a secondary basis to stations in the maritime mobile service. Seventh, we would update various rule part cross references in the U.S. Table. In particular, we would delete approximately 50 cross references to the International Fixed Public Radiocommunication Services (“IFPRS”) because specific frequencies or bands are not listed in Part 23, which is the purpose of having a cross reference to a rule part. Eighth, we would update the text of 18 international country footnotes that do not apply to Region 2.

Initial Regulatory Flexibility Analysis

25. As required by the Regulatory Flexibility Act (“RFA”) ¹ the Commission has prepared this Initial Regulatory Flexibility Analysis (“IRFA”) of the possible significant economic impact on small entities by the policies and rules proposed in this NPRM and Order. Written public comments are requested on this IRFA. Comments must be identified as responses to the IRFA and must be filed by the deadlines for comments on the NPRM and Order. The Commission will send a copy of the Notice, including this IRFA, to the Chief Counsel for Advocacy of the Small Business Administration.² In addition, the NPRM and Order and IRFA (or summaries thereof) will be published in the Federal Register.³

¹ See 5 U.S.C. 603. The RFA, see 5 U.S.C. 601 et.seq., has been amended by the Contract With America Advancement Act of 1996, Public Law 104-121, 110 Stat. 847 (1996) (“CWAAA”). Title II of the CWAAA is the Small Business Regulatory Enforcement Fairness Act of 1996 (“SBREFA”).

² See 5 U.S.C. 603(a).

³ Id.

Need for, and Objectives of, the Proposed Rules

26. The NPRM and Order proposes to implement domestically various allocation changes that have been made at recent World Radiocommunication Conferences. In particular, we propose to reallocate 1540 kilohertz of spectrum from the fixed and mobile services to the broadcasting service. We also propose to make consequential changes to various service rules. These proposals would update our Rules for bands below 28000 kHz so that they better comport with international regulations. In addition, we propose to clarify the status of services in the AM Expanded Band (1605-1705 kHz).

Legal Basis

27. The proposed actions are authorized under sections 1, 4, 301, 302(a), 303, 307, 309, 316, 332, 334, and 336 of the Communications Act of 1934, as amended, 47 U.S.C. 151, 154, 301, 302(a), 303, 307, 309, 316, 332, 334, and 336.

Description and Estimate of the Number of Small Entities to Which the Proposed Rules Will Apply

28. The RFA directs agencies to provide a description of, and, where feasible, an estimate of the number of small entities that may be affected by the proposed rules, if adopted.⁴ The RFA generally defines the term “small entity” as having the same meaning as the terms “small business,” “small organization,” and “small governmental jurisdiction.” ⁵ In addition, the term “small business” has the same meaning as the term “small business concern” under the Small Business Act, 15 U.S.C. 632, unless the Commission has developed one or more definitions that are appropriate to its activities.⁶ A “small business concern” is one that: (1) Is independently owned and operated; (2) is not dominant in its field of operation; and (3) meets any additional criteria established by the Small Business Administration (“SBA”).⁷

⁴ 5 U.S.C. 603(b)(3).

⁵ 5 U.S.C. 601(6).

⁶ 5 U.S.C. 601(3) (incorporating by reference the definition of “small business concern” in 15 U.S.C. 632). Pursuant to the RFA, the statutory definition of a small business applies “unless an agency, after consultation with the Office of Advocacy of the Small Business Administration and after opportunity for public comment, establishes one or more definitions of such term which are appropriate to the activities of the agency and publishes such definition(s) in the Federal Register.” 5 U.S.C. 601(3).

⁷ 15 U.S.C. 632.

Fixed Service. There are 162 fixed assignments authorized under § 90.266 for long distance communications,⁸ 17 Alaska private-fixed assignments,⁹ and 5 aeronautical fixed station assignments ¹⁰ that operate in the bands proposed for reallocation. The Commission has not yet defined a small business with respect to these fixed services. For purposes of this IRFA, we will use the SBA's definition applicable to radiotelephone (wireless) companies—i.e., an entity with no more than 1,500 persons.¹¹ We believe that most of the § 90.266 licensees are telephone, gas, and power companies that are not small businesses. We estimate that most of these fixed service licensees would not qualify as small entities under the SBA definition for radiotelephone (wireless) companies; therefore, less than 184 small entities would be impacted by the proposed reallocation.

⁸ 47 CFR 90.266.

⁹ 47 CFR Part 80, Subpart O—Alaska Fixed Stations.

¹⁰ 47 CFR 87.275, 87.277, 87.279.

¹¹ 13 CFR 121.201, NAICS codes 513321, 513322, 513330.

Maritime Service. The Commission has not adopted a definition of small entity specific to coast stations in the maritime service.¹² We will use the SBA's definition applicable to radiotelephone (wireless) companies, i.e., an entity employing no more than 1,500 persons.¹³ There are 4 public and 4 private coast station licensees that operate in the bands proposed for reallocation, and we estimate that almost all of them qualify as small under the SBA definition.

¹² The service is defined in Part 80 of the Commission's Rules, 47 CFR Part 80.

¹³ 13 CFR 121.201, NAICS codes 513321, 513322, and 513330.

International Broadcast Stations. The SBA defines a radio broadcasting station that has $5 million or less in annual receipts as a small business.¹⁴ A radio broadcasting station is an establishment primarily engaged in broadcasting aural programs by radio to the public.¹⁵ Included in this industry are commercial, religious, educational, and other radio stations.¹⁶ The transmissions of international broadcast stations are intended to be received directly by the general public in foreign countries.¹⁷ There are 24 international broadcast licensees, and we estimate that almost all of them qualify as small under the SBA definition.

¹⁴ 13 CFR 121.201, NAICS codes 513111 and 513112.

¹⁵ 1992 Census, Series UC92-S-1, at Appendix A-9.

¹⁶ Id.

¹⁷ See 47 CFR 73.701.

Private Land Mobile Radio Services. The Commission has not adopted a definition of small entity specific to private land mobile radio services.¹⁸ We will use the SBA's definition applicable to radiotelephone (wireless) companies, i.e., an entity employing no more than 1,500 persons.¹⁹ There are 4 Industrial/Business Pool licensees and 2 radiolocation licensees in the AM Expanded Band, and we believe that none of them qualify as small under the SBA definition.

¹⁸ The service is defined in Part 90 of the Commission's Rules, 47 CFR Part 90.

¹⁹ 13 CFR 121.201, NAICS codes 513321, 513322, and 513330.

Description of Projected Reporting, Recordkeeping, and Other Compliance Requirements

29. We propose no new reporting or recordkeeping requirements on small entities; however, we do propose three compliance requirements that may have a significant economic burden on small entities. First, if fixed or coast station licensees determine that they can not operate in the WARC-92 HFBC bands without causing harmful interference to international broadcast stations, we propose that these licensees move to other fixed or mobile frequencies. Those fixed and coast station licensees that move to other assigned frequencies would have to pay a license modification fee if they do not request such frequencies during renewal. We note that 162 of the 205 assignments in these bands operate on a non-interference, unprotected basis internationally and that our proposed rules do not change their status.²⁰ In contrast, the status of the remaining 43 assignments would be affected by the proposed reallocation, that is, these primary and protected assignments would be downgraded to non-interference, unprotected status. These 43 assignments can be more specifically classified as 21 coast station, 17 Alaska private-fixed, and 5 aeronautical fixed assignments. We believe that all of the affected stations use equipment that can be tuned to other HF bands allocated to the fixed or mobile services and that there is sufficient allocated spectrum available for this purpose. Accordingly, we believe that any relocation costs would be de minimus; however, out of an abundance of caution we are seeking comment in this IRFA as to actual costs of this move. Second, we propose to adopt a stricter frequency control tolerance for international broadcast stations. This requirement may cause some of our licensees to have to modify their equipment. We request comment on our analysis.

²⁰ See 47 CFR 2.102(h) of the Commission's Rules for the special provisions regarding the use of spectrum allocated to the fixed and land mobile services below 25 MHz by non-Federal Government stations.

30. The band 1605-1705 kHz was reallocated from the land mobile service to the broadcasting service in 1983. However, there are four Industrial/Business Pool licensees in the AM Expanded Band. In addition, there are two radiolocation licensees operating in the AM Expanded Band on a secondary basis. In the NPRM and Order, we propose to permit these currently licensed stations to continue to operate until the end of their current license term on a non-interference basis to AM radio and TIS stations, without an opportunity for renewal.

Steps Taken To Minimize Significant Economic Impact on Small Entities, and Significant Alternatives Considered

31. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.²¹

²¹ 5 U.S.C. 603(c).

32. As stated in number (1) above, one alternative that we are considering is whether or not to allow small entities operating international broadcast stations a longer time to transition from outdated equipment. This transition would be necessary in instances in which equipment cannot maintain the stringent tolerance required by the proposed rule. We request that commenters address the effects of grandfathering existing international broadcast stations at their current frequency tolerance. See paragraph 18 of the NPRM and Order. In addition, we request comment on alternatives that could further minimize the impact of the proposed frequency tolerance on small entities.

33. With regard to small entities operating in the AM Expanded Band, Commission staff will work with affected licensees to help them find suitable alternative channels if the licensee desires. No fee will be charged to licensees of affected stations that apply for modification for alternative channels before the end of their license term.

Federal Rules That May Duplicate, Overlap, or Conflict With the Proposed Rules

34. None.

Ordering Clauses

35. Pursuant to sections 1, 4, 301, 302(a), 303, 307, 309, 316, 332, 334, and 336 of the Communications Act of 1934, as amended, 47 U.S.C. 151, 154, 301, 302(a), 303, 307, 309, 316, 332, 334, and 336, the NOTICE OF PROPOSED RULE MAKING AND ORDER is hereby ADOPTED.

36. The Public Safety, Industrial/Business Pool, and remote pickup applications for frequencies within the band 1605-1705 kHz shall not be granted. The Commission shall not accept said applications for new licenses or modifications or renewals of existing licenses for frequencies within the band 1605-1705 kHz as of the [effective date of this NPRM and Order]. Any such applications received on or after that date shall be returned as unacceptable for filing. Pending applications shall be dismissed, unless they are modified to specify alternative frequencies.

37. The Commission's Consumer Information Bureau, Reference Information Center, SHALL SEND a copy of this NOTICE OF PROPOSED RULE MAKING AND ORDER, including the Initial Regulatory Flexibility Analysis, to the Chief Counsel for Advocacy of the Small Business Administration.

List of Subjects

47 CFR Part 2

Radio, telecommunications.

47 CFR Part 73

Communications equipment, radio, reporting and recordkeeping.

47 CFR Part 74

Radio.

47 CFR Part 80

Alaska, radio.

47 CFR Part 90

Business and industry, radio.

47 CFR Part 97

Radio, volunteers.

Federal Communications Commission.
William F. Caton,
Acting Secretary.

Rules Change

For the reasons discussed in the preamble, the Federal Communications Commission proposes to amend 47 CFR Parts 2, 73, 74, 80, 90, and 97 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106, the Table of Frequency Allocations, is amended as follows:

a. Revise pages 1 through 21.

b. In the list of International Footnotes, under I. New “S” Numbering Scheme, revise footnotes S5.55, S5.58, S5.59, S5.65, S5.67, S5.75, S5.77, S5.93, S5.96, S5.98, S5.99, S5.107, S5.112, S5.114, S5.117, S5.152, S5.154, and S5.155A; and remove footnotes S5.81, S5.120, and S5.124.

c. In the list of International Footnotes, under II. Old Numbering Scheme, remove footnotes 459, 471, 472, 472A, 474, and 480.

d. In the list of United States (US) Footnotes, revise footnotes US18, US25, US82, US104, US225, US231, US281, US282, US283, US298, US321, and US340; remove footnotes US235, US236, and US238; and add footnotes USwww, USxxx, USyyy and USzzz.

The additions and revisions read as follows:

§ 2.106 Table of Frequency Allocations.

* * * * *

BILLING CODE 6712-01-P

BILLING CODE 6712-01-C

International Footnotes

* * * * *

S5.55 Additional allocation: in Armenia, Azerbaijan, Bulgaria, Georgia, Kyrgyzstan, the Russian Federation, Tajikistan and Turkmenistan, the band 14-17 kHz is also allocated to the radionavigation service on a primary basis.

* * * * *

S5.58 Additional allocation: in Armenia, Azerbaijan, Georgia, Kazakstan, Kyrgyzstan, the Russian Federation, Tajikistan and Turkmenistan, the band 67-70 kHz is also allocated to the radionavigation service on a primary basis.

S5.59 Different category of service: in Bangladesh and Pakistan, the allocation of the bands 70-72 kHz and 84-86 kHz to the fixed and maritime mobile services is on a primary basis (see No. S5.33).

* * * * *

S5.65 Different category of service: in Bangladesh, the allocation of the bands 112-117.6 kHz and 126-129 kHz to the fixed and maritime mobile services is on a primary basis (see No. S5.33).

* * * * *

S5.67 Additional allocation: in Azerbaijan, Bulgaria, Mongolia, Kyrgyzstan, Romania and Turkmenistan, the band 130-148.5 kHz is also allocated to the radionavigation service on a secondary basis. Within and between these countries this service shall have an equal right to operate.

* * * * *

S5.75 Different category of service: in Armenia, Azerbaijan, Belarus, Georgia, Moldova, Kyrgyzstan, the Russian Federation, Tajikistan, Turkmenistan, Ukraine and the Black Sea areas of Bulgaria and Romania, the allocation of the band 315-325 kHz to the maritime radionavigation service is on a primary basis under the condition that in the Baltic Sea area, the assignment of frequencies in this band to new stations in the maritime or aeronautical radionavigation services shall be subject to prior consultation between the administrations concerned.

* * * * *

S5.77 Different category of service: in Australia, China, the French Overseas Territories of Region 3, India, Indonesia (until 1 January 2005), Iran (Islamic Republic of), Japan, Pakistan, Papua New Guinea and Sri Lanka, the allocation of the band 415-495 kHz to the aeronautical radionavigation service is on a primary basis. Administrations in these countries shall take all practical steps necessary to ensure that aeronautical radionavigation stations in the band 435-495 kHz do not cause interference to reception by coast stations of ship stations transmitting on frequencies designated for ship stations on a worldwide basis (see No. S52.39).

* * * * *

S5.93 Additional allocation: in Angola, Armenia, Azerbaijan, Belarus, Georgia, Hungary, Kazakstan, Latvia, Lithuania, Moldova, Mongolia, Nigeria, Uzbekistan, Poland, Kyrgyzstan, Slovakia, the Czech Rep., the Russian Federation, Tajikistan, Chad, Turkmenistan and Ukraine, the bands 1625-1635 kHz, 1800-1810 kHz and 2160-2170 kHz and, in Bulgaria, the bands 1625-1635 kHz and 1800-1810 kHz, are also allocated to the fixed and land mobile services on a primary basis, subject to agreement obtained under No. S9.21.

* * * * *

S5.96 In Germany, Armenia, Austria, Azerbaijan, Belarus, Denmark, Estonia, Finland, Georgia, Hungary, Ireland, Israel, Jordan, Kazakstan, Latvia, Liechtenstein, Lithuania, Malta, Moldova, Norway, Uzbekistan, Poland, Kyrgyzstan, Slovakia, the Czech Rep., the United Kingdom, the Russian Federation, Sweden, Switzerland, Tajikistan, Turkmenistan and Ukraine, administrations may allocate up to 200 kHz to their amateur service in the bands 1715-1800 kHz and 1850-2000 kHz. However, when allocating the bands within this range to their amateur service, administrations shall, after prior consultation with administrations of neighbouring countries, take such steps as may be necessary to prevent harmful interference from their amateur service to the fixed and mobile services of other countries. The mean power of any amateur station shall not exceed 10 W.

* * * * *

S5.98 Alternative allocation: in Angola, Armenia, Azerbaijan, Belarus, Belgium, Bulgaria, Cameroon, the Congo, Denmark, Egypt, Eritrea, Spain, Ethiopia, Georgia, Greece, Italy, Kazakstan, Lebanon, Lithuania, Moldova, the Netherlands, Syria, Kyrgyzstan, the Russian Federation, Somalia, Tajikistan, Tunisia, Turkmenistan, Turkey and Ukraine, the band 1810-1830 kHz is allocated to the fixed and mobile, except aeronautical mobile, services on a primary basis.

S5.99 Additional allocation: in Saudi Arabia, Austria, Bosnia and Herzegovina, Iraq, Libya, Uzbekistan, Slovakia, the Czech Rep., Romania, Slovenia, Chad, Togo and Yugoslavia, the band 1810-1830 kHz is also allocated to the fixed and mobile, except aeronautical mobile, services on a primary basis.

* * * * *

S5.107 Additional allocation: in Saudi Arabia, Botswana, Eritrea, Ethiopia, Iraq, Lesotho, Libya, Somalia and Swaziland, the band 2160-2170 kHz is also allocated to the fixed and mobile, except aeronautical mobile (R), services on a primary basis. The mean power of stations in these services shall not exceed 50 W.

* * * * *

S5.112 Alternative allocation: in Bosnia and Herzegovina, Cyprus, Denmark, Greece, Iceland, Malta, Sri Lanka and Yugoslavia, the band 2194-2300 kHz is allocated to the fixed and mobile, except aeronautical mobile, services on a primary basis.

* * * * *

S5.114 Alternative allocation: in Bosnia and Herzegovina, Cyprus, Denmark, Greece, Iraq, Malta, and Yugoslavia, the band 2502-2625 kHz is allocated to the fixed and mobile, except aeronautical mobile, services on a primary basis.

* * * * *

S5.117 Alternative allocation: in Bosnia and Herzegovina, Cyprus, Côte d'Ivoire, Denmark, Egypt, Greece, Iceland, Liberia, Malta, Sri Lanka, Togo and Yugoslavia, the band 3155-3200 kHz is allocated to the fixed and mobile, except aeronautical mobile, services on a primary basis.

* * * * *

S5.152 Additional allocation: in Armenia, Azerbaijan, China, Côte d'Ivoire, Georgia, Iran (Islamic Republic of), Kazakstan, Moldova, Kyrgyzstan, the Russian Federation, Tajikistan, Turkmenistan and Ukraine, the band 14250-14350 kHz is also allocated to the fixed service on a primary basis. Stations of the fixed service shall not use a radiated power exceeding 24 dBW.

* * * * *

S5.154 Additional allocation: in Armenia, Azerbaijan, Georgia, Kazakstan, Moldova, Kyrgyzstan, the Russian Federation, Tajikistan, Turkmenistan and Ukraine, the band 18068-18168 kHz is also allocated to the fixed service on a primary basis for use within their boundaries, with a peak envelope power not exceeding 1 kW.

* * * * *

S5.155A In Armenia, Azerbaijan, Belarus, Bulgaria, Georgia, Kazakstan, Moldova, Mongolia, Uzbekistan, Kyrgyzstan, Slovakia, the Czech Rep., the Russian Federation, Tajikistan, Turkmenistan and Ukraine, the use of the band 21850-21870 kHz by the fixed service is limited to provision of services related to aircraft flight safety.

* * * * *

United States (US) Footnotes

* * * * *

US18 Navigation aids in the U.S. and its insular areas in the bands 9-14 kHz, 90-110 kHz, 190-415 kHz, 510-535 kHz, and 2700-2900 MHz are normally operated by the Federal Government. However, authorizations may be made by the FCC for non-Federal Government operations in these bands subject to the conclusion of appropriate arrangements between the FCC and the Federal agencies concerned and upon special showing of need for service which the Federal Government is not yet prepared to render.

* * * * *

US25 The use of frequencies in the band 25850-26175 kHz may be authorized to non-Federal Government remote pickup broadcast base and mobile stations on the condition that harmful interference is not caused to the reception of either international broadcast stations transmitting in the band 25850-26100 kHz or coast stations transmitting in the band 26100-26175 kHz.

* * * * *

US82 The assignable frequencies in the bands 4146-4152 kHz, 6224-6233 kHz, 8294-8300 kHz, 12353-12368 kHz, 16528-16549 kHz, 18825-18846 kHz, 22159-22180 kHz, and 25100-25121 kHz may be authorized on a shared non-priority basis to Federal and non-Federal Government ship and coast stations (SSB telephony, with peak envelope power not to exceed 1 kW).

* * * * *

US104 The LORAN Radionavigation System has priority in the band 90-110 kHz in the United States and its insular areas. Radiolocation land stations making use of LORAN type equipment may be authorized to both Federal and non-Federal Government licensees on a secondary basis for offshore radiolocation activities only at specific locations and subject to such technical and operational conditions (e.g., power, emission, pulse rate and phase code, hours of operation), including on-the-air testing, as may be required on a case-by-case basis to ensure protection of the LORAN radionavigation system from harmful interference and to ensure mutual compatibility among radiolocation operators. Such authorizations to stations in the radiolocation service are further subject to showing of need for service which is not currently provided and which the Federal Government is not yet prepared to render by way of the radionavigation service.

* * * * *

US225 In addition to its present Federal Government use, the band 510-525 kHz is available to Federal and non-Federal Government aeronautical radionavigation stations inland of the Territorial Base Line as coordinated with the military services. In addition, the frequency 510 kHz is available for non-Federal Government ship-helicopter operations when beyond 100 nautical miles from shore and required for aeronautical radionavigation.

* * * * *

US231 When an assignment cannot be obtained in the bands between 200 kHz and 525 kHz, which are allocated to aeronautical radionavigation, assignments may be made to aeronautical radiobeacons in the maritime mobile band 435-490 kHz, on a secondary basis, subject to the coordination and agreement of those agencies having assignments within the maritime mobile band which may be affected. Assignments to Federal Government aeronautical radionavigation radiobeacons in the band 435-490 kHz shall not be a bar to any required changes to the maritime mobile radio service and shall be limited to non-voice emissions.

* * * * *

US281 In the band 25070-25210 kHz, non-Federal Government stations in the Industrial/Business Pool shall not cause harmful interference to, and must accept interference from, stations in the maritime mobile service operating in accordance with the International Table of Frequency Allocations.

US282 In the band 4650-4700 kHz, frequencies may be authorized for non-Federal Government communication with helicopters in support of off-shore drilling operations on the condition that harmful interference will not be caused to services operating in accordance with the Table of Frequency Allocations.

US283 In the bands 2850-3025 kHz, 3400-3500 kHz, 4650-4700 kHz, 5450-5680 kHz, 6525-6685 kHz, 10005-10100 kHz, 11275-11400 kHz, 13260-13360 kHz, and 17900-17970 kHz, frequencies may be authorized for non-Federal Government flight test purposes on the condition that harmful interference will not be caused to services operating in accordance with the Table of Frequency Allocations.

* * * * *

US298 Channels 27555, 27615, 27635, 27655, 27765, and 27860 kHz are available for use by forest product licensees on a secondary basis to Federal Government operations including experimental stations. Non-Federal Government operations on these channels will not exceed 150 watts output power and are limited to the states of Washington, Oregon, Maine, North Carolina, South Carolina, Tennessee, Georgia, Florida, Alabama, Mississippi, Louisiana, and Texas (eastern portion).

* * * * *

US321 The band 535-1705 kHz is also allocated to the non-Federal Government mobile service on a secondary basis for the distribution of public service information from Travelers' Information Stations operating in accordance with the provisions of 47 C.F.R. § 90.242 on 10 kilohertz spaced channels from 540 kHz to 1700 kHz.

* * * * *

US340 The band 2-30 MHz is available on a non-interference basis to Federal and non-Federal Government maritime and aeronautical stations for the purposes of measuring the quality of reception on radio channels. See 47 CFR § 87.149 for the list of protected frequencies and bands within this frequency range. Actual communications shall be limited to those frequencies specifically allocated to the maritime mobile and aeronautical mobile services.

* * * * *

USwww On the condition that harmful interference is not caused to the reception of AM broadcast stations or to travelers' information stations, Federal Government stations in the band 1615-1705 kHz may continue operations until [one year from the adoption date of the Report and Order].

USxxx On the condition that harmful interference is not caused to the broadcasting service, frequencies in the bands 9775-9900 kHz, 11650-11700 kHz, and 11975-12050 kHz may be used by Federal Government stations in the fixed service communicating within the United States and its insular areas that are authorized as of [adoption date of the Report and Order]. Each such station shall be limited to a total radiated power of 24 dBW.

USyyy On April 1, 2007, the bands 5900-5950 kHz, 7300-7350 kHz, 9400-9500 kHz, 11600-11650 kHz, 12050-12100 kHz, 13570-13600 kHz, 13800-13870 kHz, 15600-15800 kHz, 17480-17550 kHz, and 18900-19020 kHz shall be allocated exclusively to the broadcasting service. On or after April 1, 2007, frequencies in these bands may be used by stations in the fixed and mobile services, communicating only within the United States and its insular areas, on the condition that harmful interference is not caused to the broadcasting service. When using frequencies in the fixed and mobile services, licensees shall be limited to the minimum power required and shall take account of the seasonal use of frequencies by the broadcasting service published in accordance with Article S12 of the ITU Radio Regulations.

USzzz Consistent with US18, stations may be authorized on a primary basis in the band 285-325 kHz for the specific purpose of transmitting differential global positioning system information.

* * * * *

PART 73—RADIO BROADCAST SERVICES

3. The authority citation for Part 73 continues to read as follows:

Authority: 47 U.S.C. 154, 303, 334 and 336.

4. Section 73.701 is amended by removing and reserving paragraph (j) and revising paragraphs (a), (e), (g), (h), (i), and (l) to read as follows:

§ 73.701 Definitions.

* * * * *

(a) International broadcast stations. A broadcasting station employing frequencies allocated to the broadcasting service between 5900 and 26100 kHz, the transmissions of which are intended to be received directly by the general public in foreign countries. (A station may be authorized more than one transmitter.) There are both Federal and non-Federal Government international broadcast stations; only the latter are licensed by the Commission and are subject to the rules of this subpart.

* * * * *

(e) Coordinated Universal Time (UTC). Time scale, based on the second (SI), as defined in Recommendation ITU-R TF.460-5. UTC is equivalent to mean solar time at the prime median (0° longitude), formerly expressed as GMT.

* * * * *

(g) Day. Any twenty-four hour period beginning 0100 UTC and ending 0100 UTC.

(h) Schedule A. That portion of any year commencing at 0100 UTC on the last Sunday in March and ending at 0100 UTC on the last Sunday in October.

(i) Schedule B. That portion of any year commencing at 0100 UTC on the last Sunday in October and ending at 0100 UTC on the last Sunday in March.

(j) [Reserved]

* * * * *

(l) Reference month. That month of a season which is used for determining predicted propagation characteristics for the season. The reference month for Schedule A is July and the reference month for Schedule B is December.

* * * * *

5. Section 73.702 is amended by redesignating paragraph (f)(3) as (f)(4) and adding new paragraph (f)(3) and revising paragraphs (f) introductory text, (f)(1) and the first and second sentences in paragraph (f)(2) to read as follows:

§ 73.702 Assignment and use of frequencies.

* * * * *

(f) Assigned frequencies shall be within the following bands, which are allocated on an exclusive basis to the broadcasting service:

(1) 5950-6200 kHz, 9500-9900 kHz, 11650-12050 kHz, 13600-13800 kHz, 15100-15600 kHz, 17550-17900 kHz, 21450-21850 kHz, and 25670-26100 kHz.

(2) In addition, the band 7100-7300 kHz is allocated on an exclusive basis to the broadcasting service in International Telecommunication Union (ITU) Regions 1 and 3 as defined in 47 CFR 2.104(b) of this chapter. Assignments in the band 7100-7300 kHz shall be limited to international broadcast stations located in ITU Region 3 insular areas (as defined in 47 CFR 2.105(a), note 4) of this chapter that transmit to zones and areas of reception in ITU Region 1 or 3. * * *

(3) In addition, frequencies within the following bands are assignable to the broadcasting service on an exclusive basis after April 1, 2007:

(i) 5900-5950 kHz, 7300-7350 kHz, 9400-9500 kHz, 11600-11650 kHz, 12050-12100 kHz, 13570-13600 kHz, 13800-13870 kHz, 15600-15800 kHz, 17480-17550 kHz, and 18900-19020 kHz (WARC-92 HFBC bands).

(ii) Use of the WARC-92 HFBC bands shall be limited to single sideband emissions with the characteristics specified in Appendix S11 of the ITU Radio Regulations or to any other spectrum-efficient modulation technique recommended by the ITU Radiocommunication Sector. Double sideband modulation may continue to be used on a non-interference basis.

* * * * *

6. Section 73.703 is amended by revising the map to read as follows:

§ 73.703 Geographical zones and areas of reception.

* * * * *

BILLING CODE 6712-01-P

BILLING CODE 6712-01-C

7. Section 73.756 is amended by revising paragraph (c) to read as follows:

§ 73.756 Transmission system requirements.

* * * * *

(c) Frequency tolerance. The transmitter shall maintain the operating frequency within 10 Hz of the assigned frequency.

8. Section 73.766 is amended by revising the last sentence of the section to read as follows:

§ 73.766 Modulation and bandwidth.

* * * The highest modulating frequency shall not exceed 4.5 kHz.

PART 74—EXPERIMENTAL RADIO, AUXILIARY, SPECIAL BROADCASTING AND OTHER PROGRAM DISTRIBUTIONAL SERVICES

9. The authority citation for part 74 continues to read as follows:

Authority: 47 U.S.C. 154, 303, 307, 336(f), 336(h) and 554.

10. Section 74.402 paragraph (a)(1) and footnote 1 are removed and reserved.

PART 80—STATIONS IN THE MARITIME SERVICES

11. The authority citation for part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

12. Section 80.373 amend table in paragraph (d)(1) by adding footnote 1 for entries 5700-5950 and 7300-8100 and the table in paragraph (i) by adding footnote 3 for entries 1619.0, 1622.0, 1643.0, 1646.0, 1649.0, 1652.0 and 1705.0 to read as follows:

§ 80.373 Private communications frequencies.

* * * * *

(d) * * *

(1) * * *

Frequency Bands (kHz)
* * * * *
5730-5950 ¹
7300-8100 ¹
* * * * *
¹ After April 1, 2007, use of the sub-bands 5900-5950 kHz and 7300-7350 kHz shall be on the condition that harmful interference is not caused to HF broadcasting.

* * * * *

(i) * * *

Private Communications in Alaska Carrier Frequencies (kHz)
1619.0 ³
1622.0 ³
1643.0 ³
1646.0 ³
1649.0 ³
1652.0 ³
1705.0 ³
* * * * *
³ Use of these frequencies is on a secondary basis to Region 2 broadcasting.

* * * * *

13. Section 80.387 amend the table in paragraph (b) by adding new footnote 4 for entries 1643.0, 1646.0, 1649.0, 1652.0, 1657.0, 1660.0, 1705.0 and adding footnote 5 for entry 11601.5 to read as follows:

§ 80.387 Frequencies for Alaska fixed stations.

(b) * * *

Carrier Frequencies (kHz)
emsp;
1643.0 ⁴
1646.0 ⁴
1649.0 ⁴
1652.0 ⁴
1657.0 ⁴
1660.0 ¹ ⁴
1705.04 ⁴
* * * * *
11601.5 ² ⁵
* * * * *
¹ Use of 1660.0 kHz must be coordinated to protect radiolocation on adjacent channels.
² Peal envelope power must not exceed 1 kW for radiotelephony. Teleprinter use is authorized.
* * * * *
⁴ Use of these frequencies is on a secondary basis to Region 2 broadcasting.
⁵ After April 1, 2007, use of the frequency 11601.5 kHz shall be on the condition that harmful interference is not caused to HF broadcasting.

* * * * *

PART 90—PRIVATE LAND MOBILE RADIO SERVICES

14. The authority citation for part 90 continues to read as follows:

Authority: Sections 4(i), 11, 303(g), 303(r), and 332(c)(7) of the Communications Act of 1934, as amended, 47 U.S.C. 154(i), 161, 303(g), 303(r), 332(c)(7).

15. Section 90.35 amend the table in paragraph (b)(3) under kilohertz by removing the entries 1614 kHz, 1628 kHz, 1652 kHz, 1676 kHz, and 1700 kHz and under Megahertz by revising the entries for 25.12 MHz, 25.14 MHz, 25.16 MHz, 25.18 MHz, and 25.20 MHz and adding the entries for 27.555 MHz, 27.615 MHz, 27.635 MHz, 27.655 MHz, 27.765 MHz, and 27.86 MHz and removing and reserving paragraph (c)(2) and removing paragraph (c)(4) and revising paragraph (c)(82) to read as follows:

§ 90.35 Industrial/Business Pool.

* * * * *

(b) * * *

(3) * * *

Industrial/Business Pool Frequency Table
Frequency or band | Class of station(s) | Limitations | Coordinator
* * * * * * *
Megahertz
25.12 | ......do | 9 | IP
25.14 | ......do | 3, 4, 9 | IP
25.16 | ......do | 9 | IP
25.18 | ......do | 3, 4, 9 | IP
25.20 | ......do | 9 | IP
* * * * * * *
27.555 | Base or mobile | 82
27.615 | ......do | 82
27.635 | ......do | 82
27.655 | ......do | 82
27.765 | ......do | 82
27.86 | ......do | 82
29.71 | ......do
* * * * * * *

(c) * * *

* * * * *

(2) [Reserved]

* * * * *

(82) The frequency may be assigned only to entities meeting the definition of a forest product licensee (see § 90.7). Operations are on a secondary basis to Federal Government operations including experimental stations, will not exceed 150 watts output power, and are limited to the states of Washington, Oregon, Maine, North Carolina, South Carolina, Tennessee, Georgia, Florida, Alabama, Mississippi, Louisiana, and Texas (eastern portion).

* * * * *

17. Section 90.103 amend the table in paragraph (b) under kilohertz by removing the entry for 1605-1715, and adding in its place the entry for 1705-1715, and removing and reserving paragraphs (c)(28) and (29) and revising paragraph (c)(4) to read as follows:

§ 90.103 Radiolocation Service.

* * * * *

Radiolocation Service Frequency Table
Frequency or band | Class of station | Limitation
Kilohertz
1705 to 1715 | ......do | 4, 5, 6
* * * * * * *

* * * * *

(c) * * *

(4) The non-Federal Government radiolocation service in this band is on a secondary basis to stations in the aeronautical radionavigation service operating on 1708 kHz.

* * * * *

(28) [Reserved]

(29) [Reserved]

* * * * *

18. Section 90.263 is amended by revising the third sentence to read as follows:

§ 90.263 Substitution of frequencies below 25 MHz.

* * * In such cases, a substitute frequency, if found to be available, may be assigned from the following bands: 1705-1750 kHz, 2107-2170 kHz, 2194-2495 kHz, 2506-2850 kHz, 3155-3400 kHz, or 4438-4650 kHz. * * *

PART 97—AMATEUR RADIO SERVICE

19. The authority citation for Part 97 continues to read as follows:

Authority: 48 Stat. 1066, 1082, as amended; 47 U.S.C. 154, 303. Interpret or apply 48 Stat. 1064-1068, 1081-1105, as amended; 47 U.S.C. 151-155, 301-609, unless otherwise noted.

20. Section 97.401 is amended by removing paragraph (b) and by redesignating paragraphs (c) and (d) as (b) and (c).

[FR Doc. 02-7727 Filed 4-5-02; 8:45 am]

BILLING CODE 6712-01-P